DEPARTMENT OF ENERGY

Federal Energy Regulatory Commission

[Project No. 13399-000]

New Jersey Water Supply Authority; Notice of Preliminary Permit Application Accepted for Filing and Soliciting Comments, Motions To Intervene, and Competing Applications

April 2, 2010.

On March 17, 2009, the New Jersey Water Supply Authority (New Jersey WSA) filed an application, pursuant to section 4(f) of the Federal Power Act (FPA), proposing to study the feasibility of the Spruce Run & Round Valley Hydroelectric Project (Spruce Run/Round Valley Project). The Spruce Run/Round Valley Project would be located on tributaries of the South Branch Raritan River in the town of Clinton, Hunterdon County, New Jersey.

The Spruce Run development would consist of: (1) The existing 5,950-foot-long, 90-foot-high Spruce Run Dam with a 550-foot-long spillway; (2) the 1,290-acre Spruce Run reservoir with a normal pool elevation of 273 feet mean sea level (msl); (3) an existing outlet tower consisting of 450-foot-long twin 84-inch-diameter penstocks; (4) a new powerhouse with two turbine generating units with a total capacity of 75 kilowatts (kW); and (5) a new 20-foot-long, 34.5 kilovolt (kV) transmission line.

The Round Valley development would consist of: (1) The existing 1,460-foot-long, 135-foot-high North Dam; (2) the existing 1,400-foot-long, 180-foot-high South Dam; (3) an existing 2,340-foot-long, 75-foot-high dike; (4) the 2,350-acre Round Valley reservoir with a normal pool elevation of 385 feet msl; (5) a new powerhouse with a single turbine generating unit with a capacity of 1,128 kW; and (6) a new 20-foot-long, 34.5 kV transmission line.

The Round Valley Reservoir South Branch Hamden Pump Station development would use the 180-foot-high South Dam and would consist of: (1) A new powerhouse with two turbine generating units with a combined capacity of 420 kW; and (2) a new 80-foot-long, 34.5 kV transmission line. The project developments would produce an estimated average annual generation of about 628 megawatt-hours.

Applicant Contact: Edward Buss, P.E., New Jersey Water Supply Authority, 1851 State Hwy. 31, Clinton, NJ 08800, (908) 638-6121, ext. 261.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp. More information about this project can be viewed or printed on the “eLibrary” link of the Commission's Web site at http://www.ferc.gov/docs-filing/elibrary.asp. Enter the docket number (P-13399) in the docket number field to access the document. For assistance, call toll-free 1-866-208-3372.

Kimberly D. Bose,
Secretary.

[FR Doc. 2010-8073 Filed 4-8-10; 8:45 am]

BILLING CODE 6717-01-P